DEPARTMENT OF LABOR

Employment and Training Administration

[TA-W-50,960, TA-W-50,960A, and TA-W-50,960B]

American Identity, Formerly Doing Business as Dunbrooke Industries, Inc. Marcus, IA, Hawarden IA, Orange City, IA; Notice of Termination of Investigation

Pursuant to section 221 of the Trade Act of 1974, as amended, an investigation was initiated on February 24, 2003, in response to a worker petition filed by a company official on behalf of workers at American Identity, formerly doing business as Dunbrooke Industries, Inc., Marcus, Iowa, Hawarden, Iowa, and Orange City, Iowa.

The petitioning group of workers is covered by an active certification issued on May 3, 2001 (TA-W-38,985). Consequently, the investigation has been terminated.

Signed at Washington, DC, this 11th day of March 2003.
Richard Church,
Certifying Officer, Division of Trade Adjustment Assistance.

[FR Doc. 03-7914 Filed 4-1-03; 8:45 am]

BILLING CODE 4510-30-P